SOCIAL SECURITY ADMINISTRATION

[Docket No. SSA 2007-0092]

Rescission of Social Security Ruling 97-2p

AGENCY: Social Security Administration.

ACTION: Notice of rescission of Social Security Ruling.

SUMMARY: In accordance with 20 CFR 402.35(b)(1), the Commissioner of Social Security gives notice of the rescission of Social Security Ruling (SSR) 97-2p.

DATES: Effective Date: This rescission will be effective November 21, 2011.

FOR FURTHER INFORMATION CONTACT: Joshua Silverman, Office of Regulations, Social Security Administration, 6401 Security Boulevard, Baltimore, MD 21235-6401, (410) 594-2128. For information on eligibility or filing for benefits, call our national toll-free number, 1-800-772-1213 or TTY 1-800-325-0778, or visit our Internet site, Social Security Online, at http://www.socialsecurity.gov.

SUPPLEMENTARY INFORMATION: SSRs make available to the public precedential decisions relating to the Federal old-age, survivors, disability, supplemental security income, and special veterans benefits programs. SSRs may be based on determinations or decisions made at all levels of administrative adjudication, Federal court decisions, Commissioner's decisions, opinions of the Office of the General Counsel, or other interpretations of the law and regulations.

In SSR 97-2p, we informed the public that we would use our existing regulatory authority to conduct prehearing case reviews in a wider range of circumstances than we had done previously. Specifically, we explained the situations in which an administrative law judge might return a claim to the disability determination services for a prehearing case review that could result in a fully or partially favorable revised determination for a claimant.

SSR 97-2p also explained the procedures a claimant must follow if he or she wished either to continue to the ALJ hearing after receiving a fully favorable revised prehearing determination or to dismiss the request for a hearing after receiving a revised prehearing determination that was partially favorable.

We are publishing regulatory changes in today's Federal Register that make some of the information in SSR 97-2p no longer accurate. The final rules, Amendments to Procedures for Certain Determinations and Decisions, revise the procedures a claimant must follow if he or she wants to have a hearing after receiving a fully favorable revised prehearing determination or does not want to have a hearing after receiving a partially favorable revised prehearing determination.

We considered whether we should revise SSR 97-2p to reflect these changes. However, much of the information in SSR 97-2p is already contained in our regulations or in other SSRs, and we believe that we no longer need the limited additional information in SSR 97-2p. Accordingly, we are rescinding SSR 97-2p as obsolete.

(Catalog of Federal Domestic Assistance Program Nos. 96.001, Social Security-Disability Insurance; 96.002, Social Security-Retirement Insurance; 96.004, Social Security-Survivors Insurance; and 96.006, Supplemental Security Income)

Dated: October 12, 2011.
Michael J. Astrue,
Commissioner of Social Security.

[FR Doc. 2011-27234 Filed 10-20-11; 8:45 am]

BILLING CODE 4191-02-P